ENVIRONMENTAL PROTECTION AGENCY

[FRL 7226-4]

Agency Information collection Activities; OMB Responses

AGENCY: Environmental Protection Agency (EPA).

ACTION: Notices.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby at (202) 566-1672, or email at Auby.susan@epa.gov. and please refer to the appropriate EPA Information Collection Requests (ICR) Number.

SUPPLEMENTARY INFORMATION:

OMB Responses to Agency Clearance Requests

OMB Approvals

EPA ICR No. 1812.02; Safe Drinking Water Act; Annual Public Water Systems Compliance Report; was approved 09/28/2001; OMB No. 2020-0020; expires 09/30/2004.

EPA ICR No. 1977.01; National Wastewater Operator Training and Technical Assistance Program—CWA 104(g)(1); was approved 09/28/2001; OMB No. 2040-0238; expires 09/30/2004.

EPA ICR No. 1086.06; NSPS subpart KKK and LLL standards of Performance for Onshore Natural Gas Processing Plants; was approved 10/12/2001; OMB No. 2060-0120; expires 10/31/2004.

EPA ICR No. 1050.07; NSPS for Storage Vessels for Petroleum Liquids, in 40 CFR part 60, subpart Ka; was approved 10/21/2001; OMB No. 2060-0121; 10/31/2004.

EPA ICR No. 1365.06; Asbestos-Containing Materials in Schools Rule and Asbestos Model Accreditation Plan Rule (MAP); was approved 10/15/2001; OMB No. 2070-0091; expires 10/31/2004.

EPA ICR No. 1941; Proposed Information Collection Request for the Evaluation of Print STEP; was approved 1015/2001; OMB No. 2020-0023; expires 10/31/2004.

EPA ICR No. 1139.06; TSCA Section 4 Test Rules, Consent Orders, Test Rule Exemptions, and Voluntary Data Submission; was approved 10/15/2001; OMB No. 2070-0033; expires 10/31/2004.

EPA ICR No. 1928.03 (later this ICR No. was changed to 2052.01); Information Collection Request for Long Term 1 Enhanced Surface Water Treatment Rule (final Rule); was approved 10/25/2001; OMB No. 2040-0229; expires 10/31/2004.

EPA ICR No. 1230.10; Prevention of Significant Deterioration and Nonattainment Area New Source Review; in 40 CFR parts 51 & 52; was approved 10/29/2001; OMB No. 2060-0003; expires 11/30/2002.

EPA ICR No. 1246.08; Rule Related Replacement ICR to the Existing ICR entitled “Reporting and Recordkeeping for Asbestos Abatement Worker Protection”; in 40 CFR part 763, subpart G; was approved 07/23/2001; OMB No. 2070-0072; expires 07/31/2004.

EPA ICR No. 2021.01; Compliance Assistance Surveys for the Marina, Metal Finishing, Construction Site, and Auto Salvage Yard Sectors; was approved 08/23/2001; OMB No. 2020-0022; expires 08/31/2004.

EPA ICR No. 1063.08; NSPS for Sewage Sludge Treatment Plant Incineration; in 40 CFR part 60, subpart O; was approved 09/06/2001; OMB No. 2060-0035; expires 09/30/2004.

EPA ICR No. 1136.06; NSPS Standards of Performance for VOC Emissions from Petroleum Refinery Wastewater Systems-Reporting and Recordkeeping; in 40 CFR part 60, subpart QQQ; was approved 09/06/2001; OMB No. 2060-0172; expires 09/30/2004.

EPA ICR No. 1504.04; Data Generation for Pesticide Reregistration Activities; in 40 CFR part 158; was approved 09/07/2001; OMB No. 2070-0107; expires 09/30/2004.

EPA ICR No. 1911.01; Data Acquisition for Anticipated Residue and Percent Crop Treated; was approved 09/07/2001; OMB No. 2070-0164; expires 09/30/2004.

EPA ICR No. 1680.03; Information Collection Request for the Combined Sewer Overflow Policy; was approved 10/15/2001; OMB No. 2040-0170; expires 10/31/2004.

Short Term Extensions

EPA ICR No. 1432.20; Recordkeeping and Periodic Reporting of the Production, Import, Recycling, Destruction, Transshipment and Feedstrock Use of Ozone—Depleting Substances; in 40 CFR part 82, subpart A; OMB No. 2060-0170; on 09/28/2001 OMB extended the expiration date through 12/31/2001.

EPA ICR No. 1759.02; Pesticides Worker Protection Standard Training and Notification; in 40 CFR part 170; OMB No. 2070-0148; on 09/28/2001 OMB extended the expiration date through 12/31/2001.

Comment Filed and Continued

EPA ICR No. 0783.41; Vehicle Emission Certification and Fuel Economy Compliance (Proposed Rule—Vehicle and Engine Service Information); in 40 CFR parts 85, 86, 600; OMB No. 2060-0104; on 10/12/2001 OMB filed a comment and continue action pending review of the final rule.

Comments Filed

EPA ICR No. 2014.01; Reporting and Recordkeeping Requirements of the HCFC (hydro-chloroflurocarbon) allowance system; on 10/16/2001 OMB filed a comment.

EPA ICR No. 2002.02; Cross-Media Electronic Reporting and Recordkeeping Rule (Proposed Rule), on 10/25/2001 OMB filed a comment.

Withdrawn

EPA ICR No. 1932.01; Information Collection Request for Proposed NPDES Requirements for Municipal Sanitary Sewers, Municipal Satellite Collection Systems and Sanitary Sewer Outflows; EPA withdrew it on 10/18/2001.

EPA ICR No. 1879.01; Recordkeeping and Reporting Requirements under the EPA's Energy Star Homes Program: This ICR was withdrawn at EPA's request on 10/31/2001.

Disapproved

EPA ICR No. 1980.01; Monitoring Alternatives and the Pollution Prevention Alternative for Effluent Limitations Guidelines and Standards for the Metal Products and Machinery Point Source Category in 40 CFR part 438; on 10/18/2001 OMB disapproved the ICR.

Notice of Change

EPA ICR No. 0977.05; Steam-Electric Plant Operation and Design Report; OMB No. 2080-0018; on 09/05/2001 OMB changed the expiration date to 09/30/2001.

Dated: May 29, 2002.
Oscar Morales,
Director, Collection Strategies Division.

[FR Doc. 02-14485 Filed 6-7-02; 8:45 am]

BILLING CODE 6560-50-M